DEPARTMENT OF AGRICULTURE

Animal and Plant Health Inspection Service

[Docket No. APHIS-2024-0066]

Addition of Guatemala and Honduras to the List of Regions Affected With Screwworm

AGENCY: Animal and Plant Health Inspection Service, USDA.

ACTION: Notice.

SUMMARY: We are advising the public that we have added Guatemala and Honduras to the Animal and Plant Health Inspection Service (APHIS) list maintained on the APHIS website of regions considered affected with screwworm. We took this action because of the confirmation of screwworm in these regions.

DATES: Guatemala was added to the list of regions considered affected with screwworm effective November 1, 2024. Honduras was added to the list of regions considered affected with screwworm effective October 25, 2024.

FOR FURTHER INFORMATION CONTACT: Dr. Amber Kerk, APHIS Veterinary Services, Regionalization Evaluation Services, 920 Main Campus Drive, Suite 200, Raleigh, NC 27606; phone: (608) 662-0625; email: AskRegionalization@usda.gov.

SUPPLEMENTARY INFORMATION: The regulations in 9 CFR part 93 (referred to below as the regulations) prohibit or restrict the importation of certain animals into the United States to prevent the introduction of communicable diseases and pests of livestock. Subparts C, D, E, and F of the regulations govern the importation of horses, ruminants, swine, and dogs, respectively.

Horses, ruminants, swine, and dogs may be imported into the United States from the regions where screwworm is considered to exist only if they are inspected and, if necessary, treated for screwworm according to the conditions outlined in the regulations for each type of animal. The requirements for horses are set out in § 93.308(a)(3) and include not only pre-embarkation and post-arrival inspection and treatment requirements, but also quarantine in the United States for 7 days after arrival, and examination by a veterinarian before release from quarantine. The requirements for ruminants and swine are set out in §§ 93.405(a)(3) and 93.505(b), respectively, and are the same as for horses, other than the 7-day quarantine and final examination of the animal. The requirements for dogs are set out in § 93.600 and require that all dogs from affected regions be inspected and, if necessary, treated before importation.

The Animal and Plant Health Inspection Service (APHIS) maintains a list of regions it considers affected with screwworm on its website at https://www.aphis.usda.gov/aphis/ourfocus/animalhealth/animal-and-animal-product-import-information/animal-health-status-of-regions/. APHIS will add a region to the list upon determining that screwworm exists in the region based on reports we receive of detections of the pest from veterinary officials of the exporting country, from the World Organization for Animal Health (WOAH), or from other sources the Administrator determines to be reliable.

On October 29, 2024, WOAH received a report from Guatemala documenting an outbreak of New World screwworm (Cochliomyia hominivorax) in cattle with no recent import history. Accordingly, on November 1, 2024, APHIS added Guatemala to the list of regions APHIS considers affected with screwworm.

On September 16, 2024, WOAH also received a report from Honduras documenting an outbreak of New World screwworm in illegally imported horses in that country. APHIS responded by adding Honduras to the Temporary Restrictions list for the import of animal commodities from or transiting Honduras. Soon after, Honduras reported further detections of screwworm in livestock, including cattle and swine, to WOAH on October 25, 2024. Therefore, on October 25, 2024, APHIS added Honduras to the list of regions APHIS considers affected with screwworm.

As a result, horses, ruminants, swine, and dogs from Guatemala and Honduras are subject to APHIS import restrictions designed to mitigate risk of screwworm introduction into the United States. This notice serves as an official record and public notification of these actions.

Authority: 7 U.S.C. 1622 and 8301-8317; 21 U.S.C. 136 and 136a; 31 U.S.C. 9701; 7 CFR 2.22, 2.80, and 371.4.

Done in Washington, DC, this 10th day of January 2025.
Michael Watson,
Administrator, Animal and Plant Health Inspection Service.

[FR Doc. 2025-00939 Filed 1-15-25; 8:45 am]

BILLING CODE 3410-34-P